DEPARTMENT OF AGRICULTURE

Agriculture Marketing Service

[Doc. No. AMS-FGIS-25-0038]

Notice of Request for Extension of a Currently Approved Information Collection for the Export Inspection and Weighing Waiver for High Quality Specialty Grain Transported in Containers

AGENCY: Agricultural Marketing Service, USDA.

ACTION: Notice and request for comments.

SUMMARY: In accordance with the Paperwork Reduction Act of 1995, the Agricultural Marketing Service (AMS) announcing Federal Grain Inspection Service (FGIS) intention to request approval from the Office of Management and Budget for a 3-year extension of the currently approved information collection “Export Inspection and Weighing Waiver for High Quality Specialty Grain Transported in Containers.”

This information collection is particularly interested in comments that:

(1) Evaluate whether the proposed collection of information is necessary for the proper performance of the functions of the agency, including whether the information will have practical utility;

(2) Evaluate the accuracy of the agency's estimate of the burden of the proposed collection of information including the validity of the methodology and assumptions used;

(3) Enhance the quality, utility, and clarity of the information to be collected; and

(4) Minimize the burden of the collection of information on those who are to respond, including the use of appropriate automated, electronic, mechanical, or other technological collection techniques or other forms of information technology.

DATES: Comments are encouraged and will be accepted until March 30, 2026.

ADDRESSES: Interested persons are invited to submit written comments on the proposed information collection to AMS, FGIS, Headquarters Office, 1400 Independence Avenue SW, Rm. 2430-South, Washington, DC 20250, Attention: Jennifer Hill or sent via electronic mail to FGISQACD@usda.gov. Comments may also be submitted by identifying Docket No. AMS-FGIS-25-0038 using the Federal eRulemaking Portal at https://www.regulations.gov.

FOR FURTHER INFORMATION CONTACT: A copy of this Information Collection Request may be obtained by contacting AMS, FGIS, Headquarters Office, 1400 Independence Avenue SW, Rm. 2030-South, Washington, DC 20250, Attention: Jennifer Hill or sent via electronic mail to FGISQACD@usda.gov

SUPPLEMENTARY INFORMATION: Congress enacted the United States Grain Standards Act (USGSA) (7 U.S.C. 71-87k) to facilitate the marketing of grain in interstate and foreign commerce. The USGSA, with few exceptions, requires all grain shipped from the United States to be officially inspected and weighed. The USGSA authorizes the United States Department of Agriculture (USDA) to waive the mandatory inspection and weighing requirements in circumstances when the objectives of the USGSA would not be impaired.

Section 7 CFR 800.18(b)(8) of the regulations waives the mandatory inspection and weighing requirements of the USGSA for high quality specialty grain (HQSG) exported in containers. This waiver was established to facilitate the marketing of HQSG exported in containers. This action is consistent with the objectives of the USGSA and promotes the continuing development of the HQSG export market.

FGIS requires exporters to maintain records pertaining to these shipments and to make them available upon request for review or copying purposes (76 FR 45397). These records shall be maintained for a period of 3 years. This information collection requirement is essential to ensure exporters who ship HQSG in containers comply with the waiver provisions. FGIS does not require exporters of HQSG to complete and submit new Federal government record(s), form(s), or report(s).

Agency: Federal Grain Inspection Service, Agricultural Marketing Service.

Title: Export Inspection and Weighing Waiver for High Quality Specialty Grains Transported in Containers.

OMB Number: 0581-0306.

Expiration Date of Approval: October 31, 2026.

Type of Request: Extension and revision of a currently approved collection.

Abstract: The regulations under the USGSA waive the mandatory inspection and weighing requirements for HQSG exported in containers. FGIS established this waiver to facilitate the marketing of HQSG exported in containers. To ensure compliance with this waiver, FGIS requires these exporters to maintain records generated during their normal course of business that pertain to these shipments and make these documents available to FGIS upon request, for review and copying purposes.

Grain Contracts

Estimate of Burden: Public reporting and recordkeeping burden for maintaining contract information is estimated to average 6 hours per exporter.

Affected Public: Exporters of HQSG.

Estimated Number of Respondents: 40.

Estimated Total Annual Responses: 40.

Estimated Number of Responses per Respondent: 1.

Estimated Total Annual Burden on Respondents: 240.

All responses to this notice will be summarized and included in the request for Office of Management and Budget approval. All comments will become a matter of public record.

Melissa Bailey,
Associate Administrator, Agricultural Marketing Service.

[FR Doc. 2026-01727 Filed 1-28-26; 8:45 am]

BILLING CODE P